OFFICE OF THE UNITED STATES TRADE REPRESENTATIVE

[Docket No. NAFTA/Ch20]

NAFTA Consultations Regarding Mexico—Allocation of Tariff-Rate Quota on Dry Beans

AGENCY: Office of the United States Trade Representative.

ACTION: Notice; request for comments.

SUMMARY: The Office of the United States Trade Representatives (USTR) is providing notice that on November 30, 2000, the United States requested consultations with Mexico under Chapter 20 of the North American Free Trade Agreement (NAFTA), regarding Mexico's allocation of the duty-free tariff rate quota (TRQ) for certain dry beans from the United States. The Schedule of Mexico set forth in Annex 302.2 of the NAFTA requires Mexico to provide a duty-free TRQ for certain dry beans (tariff item 0713.33.02) from the United States. Mexico did not allocate the 1999 or 2000 dry bean TRQs for the United States in a timely manner, effectively denying U.S. exporters the full market access to which they are entitled. These actions appear to be inconsistent with Mexico's obligations under Article 302 and Annex 302.2 of the NAFTA. USTR invites written comments from the public concerning the issues raised in this dispute.

DATES: Although the USTR will accept any comments received during the course of these dispute settlement proceedings, comments should be submitted on or before April 6, 2001 to be assured of timely consideration by USTR.

ADDRESSES: Comments may be submitted to Leah Mayo, Monitoring and Enforcement Unit, Office of the General Counsel, Room 222, Office of the United States Trade Representative, 600 17th Street, NW., Washington, DC 20508, Attn: Mexico Dry Beans NAFTA Dispute. Telephone: (202) 395-3582.

FOR FURTHER INFORMATION CONTACT: Juan A. Millán, Assistant General Counsel, Office of the United States Trade Representative, 600, 17th Street, NW., Washington, DC, (202) 395-3581.

SUPPLEMENTARY INFORMATION: Chapter 20 of the NAFTA establishes dispute settlement procedures to resolve disputes over any matter affecting the operation of the Agreement. Chapter 20 calls for three stages of efforts to resolve a dispute: Consultations by the parties, a meeting of the NAFTA Free Trade Commission, and, finally, arbitration before a panel. An arbitral panel formed under the Chapter 20 procedures would be expected to render its final report within five to six months after the request to establish the panel is filed.

Major Issues Raised by the United States

The United States considers that Mexico's allocation of the duty-free tariff rate quota (TRQ) for certain dry beans (tariff item 0713.33.02) from the United States fails to comply with Mexico's obligations under Article 302 and Annex 302.2 of the NAFTA. The Schedule of Mexico set forth in Annex 302.2 requires Mexico to provide a duty-free TRQ for certain dry beans from the United States. The annual quantity of the duty-free TRQ is specified in footnote 29 of its Annex 302.2 Schedule. Article 302(4) of the NAFTA permits a Party “to allocate in-quota imports made pursuant to a tariff rate quota set out in Annex 302.2, provided that such measures do not have trade restrictive effects on imports additional to those caused by the imposition of the tariff rate quota.” In both 1999 and 2000, Mexico did not allocate the dry bean TRQs for the United States in a timely manner, effectively denying U.S. exporters the full market access to which they are entitled under the TRQ. The United States believes these actions are inconsistent with Mexico's obligations under Article 302 and Annex 302.2 of the NAFTA.

Public Comment: Requirements for Submissions

Interested persons are invited to submit written comments concerning the issues raised in the dispute. Comments must be in English and provided in fifteen copies. A persons requesting that information contained in a comment submitted by that person be treated as confidential business information must certify that such information is business confidential and would not customarily be released to the public by the comments. Confidential business information must be clearly marked “BUSINESS CONFIDENTIAL” in a contrasting color ink at the top of each page of each copy.

Information or advice contained in a comment submitted, other than business confidential information, may be determined by USTR to be confidential in accordance with section 135(g)(2) of the Trade Act of 1974 (19 U.S.C. 2155(g)(2)). If the submitter believes that information or advice may qualify as such, the submitter—

(1) Must so designate the information or advice;

(2) Must clearly mark the material as “SUBMITTED IN CONFIDENCE” in a contrasting color ink at the top of each page of each copy; and

(3) Is encouraged to provide a non-confidential summary of the information or advice.

USTR will maintain a file on this dispute settlement proceeding, accessible to the public, in the USTR Reading Room: Room 101, Office of the United States Trade Representative, 600 17th Street, NW., Washington, DC 20508. The public file will include non-confidential comments received by USTR from the public with respect to the dispute; and, if an arbitral panel is convened, the U.S. submissions to that panel and the final report of the panel. An appointment to review the public file (Docket NAFTA/Ch20, Mexico—Allocation of Tariff-Rate Quota on Dry Beans) may be made by calling Brenda Webb, (202) 395-6186. The USTR Reading Room is open to the public from 9:30 a.m. to 12 noon and 1 p.m. to 4 p.m., Monday through Friday.

A. Jane Bradley,
Assistant United States Trade Representative for Monitoring and Enforcement.

[FR Doc. 01-5631 Filed 3-7-01; 8:45 am]

BILLING CODE 3190-01-M